DEPARTMENT OF DEFENSE

Department of the Navy

Notice of Intent To Grant Exclusive Patent License: Lockmasters Incorporated

Correction

In notice document 2015-30491 appearing on page 75075 in the issue of Tuesday, December 1, 2015, make the following correction:

1. On page 75075, in the first column, in the DATES section, “[INSERT DATE 15 DAYS AFTER PUBLICATION FIRST APPEARS IN Federal Register]” should read “December 16, 2015”.

[FR Doc. C1-2015-30491 Filed 12-11-15; 8:45 am]

BILLING CODE 1505-01-D